DEPARTMENT OF COMMERCE

National Oceanic and Atmospheric Administration

50 CFR Part 660

[Docket No. 051014263-5263-01; I.D. 093005A]

RIN 0648 AU00

Magnuson-Stevens Act Provisions; Fisheries off West Coast States and in the Western Pacific; Pacific Coast Groundfish Fishery; Specifications and Management Measures; Inseason Adjustments; Correction

AGENCY: National Marine Fisheries Service (NMFS), National Oceanic and Atmospheric Administration (NOAA), Commerce.

ACTION: Final rule; correcting amendment.

SUMMARY: This document contains corrections to the inseason adjustments that became effective on October 1, 2005. The inseason adjustment contained an error in the limited entry trawl trip limit table, Table 3 (South), on page 58076. The trip limit for petrale sole on line 16 should have been closed only south of 38° N. lat., as stated in the preamble, rather than south of 40°10′ N. lat. as depicted in the table. These regulations implemented changes to the 2005-2006 fishery specifications and management measures for groundfish taken in the U.S. exclusive economic zone off the coasts of Washington, Oregon, and California.

DATES: Effective 0001 hours (local time) October 1, 2005.

FOR FURTHER INFORMATION CONTACT: Jamie Goen (Northwest Region, NMFS), phone: 206-526-4646; fax: 206-526-6736 and; e-mail: jamie.goen@noaa.gov.

SUPPLEMENTARY INFORMATION:

Electronic Access

This correcting notification also is accessible via the Internet at the Office of the Federal Register's website at http://www.gpoaccess.gov/fr/index.html. Background information and documents are available at the NMFS Northwest Region website http://www.nwr.noaa.govlsustfsh/gdfsh01.htm and at the Council's website at http://www.pcouncil.org.

Background

The regulations that are the subject of this correction are at 50 CFR 660, subpart G. These regulations affect persons operating in the limited entry trawl fishery for groundfish species off the U.S. West Coast.

Need for Correction

As published, the inseason adjustment contained an error which needs to be corrected. This action provides one correction to the inseason adjustment. The inseason adjustment published in the Federal Register on October 5, 2005 (70 FR 58066), contained an error in the limited entry trawl trip limit table, Table 3 (South), on page 58076. The trip limit for petrale sole on line 16 should have been closed only south of 38° N. lat., as stated in the preamble, rather than south of 40°10′ N. lat. as depicted in the table.

As stated in the preamble to the inseason adjustment (70 FR 58066, October 5, 2005), the Pacific Fishery Management Council (Pacific Council) recommended at its September 18-23, 2005, meeting in Portland, OR, that NMFS implement a seaward limited entry trawl Rockfish Conservation Area (RCA) boundary line approximating the 250-fm (457-m) depth contour coastwide in order to nearly eliminate the catch of petrale sole. However, NMFS was not able to implement this line south of 38° N. lat. to the U.S./Mexico border because there are no coordinates for this line in Federal regulations. In order to be used as boundary lines for inseason groundfish management, coordinates must be published in Federal regulations at 50 CFR Part 660. Therefore, in order to implement the intent of the Pacific Council recommendation as much as possible, NMFS implemented a boundary line approximating the 200-fm (366-m) depth contour and a prohibition on the retention of petrale sole in this area during October. Because there is catch of petrale between 200-fm (366-m) and 250-fm (457-m), including some targeting on petrale sole, moving the RCA boundary line from 150-fm (274-m) to 200-fm (366-m) for October through December would likely not keep total catch of petrale sole within its ABC/OY for the year. A reduction of the petrale sole trip limit during the middle of a cumulative trip limit period (in this case, September through October) would make enforcement of such limits difficult. Mid-cumulative trip limit reductions are difficult to enforce because some fishers may have already achieved the higher limits earlier in the period while others who have not achieved their limit previously are restricted to the lower limits. It is difficult to query a paper-based fish landing ticket system mid-cumulative limit period to see if a fisher is in violation. Thus, NMFS determined that a closure is the best method for achieving the goals of this action. Therefore, in addition to the line change, NMFS also implemented a prohibition on the retention of petrale sole between 38° N. lat. and the U.S./Mexico border during the month of October in order to prevent targeting on petrale sole. During November and December, the Pacific Council recommendation of decreasing the trip limit for petrale sole to 2,000 lb (0.9 mt) per 2 months was determined to be sufficient to allow retention of incidentally caught petrale sole while not encouraging targeting. Therefore, while the analysis suggested a prohibition on the retention of petrale sole between 38° N. lat. and the U.S./Mexico border during the month of October, the trip limit table, Table 3 (South), mistakenly showed the prohibition on the retention of petrale sole between 40°10′ N. lat. and the U.S./Mexico border during the month of October. This was an inadvertent mistake resulting from the design of the trip limit table (i.e., trip limits for a species in Table 3 (South) apply between 40°10′ N. lat. and the U.S./Mexico border unless otherwise stated). The prohibition on retention of petrale sole should have been stated within that table as applying south of 38° N. lat.

Without a correction to Federal regulations, this fishery would be closed between 38° N. lat. and 40°10′ N. lat., which is inconsistent with the intent of the Pacific Council and NMFS. Between 38° N. lat. and 40°10′ N. lat., the limited entry trawl RCA, which extends from the shoreline to 250-fm (457-m), as well as the reduced petrale sole trip limits for November and December, are expected to sufficiently reduce the take of petrale sole to near zero through the end of the year.

For these reasons, NMFS is amending Federal regulations to correctly prohibit the retention of petrale sole between 38° N. lat. and the U.S./Mexico border during the month of October in the trip limit table, Table 3 (South).

Classification

The Assistant Administrator (AA) for Fisheries, NOAA, finds good cause to waive the requirement to provide prior notice and opportunity for public comment on this action pursuant to 5 U.S.C. 553(b)(B), because providing prior notice and opportunity for comment would be contrary to the public interest. The correction is to indicate that participants in the limited entry trawl fishery are prohibited from retaining petrale sole between 38° N. lat. and the U.S./Mexico border during the month of October in the trip limit table, Table 3 (South). NMFS had mis-published this closure in its inseason adjustment for this action (70 FR 58066, October 5, 2005). Prior notice and opportunity for comment would contravene the intent of this action, which was to allow fishing for petrale sole between 40°10′ N. lat. and 38° N. lat. during October 2005. Providing prior notice and opportunity for comment would cost fishermen in lost fishing opportunity during October and to compound this loss by going through prior notice and opportunity for comment would in effect make the action meaningless. Therefore, it is contrary to the public interest to provide prior notice and an opportunity for public comment on this correction.

For these reasons, the AA finds also finds good cause to waive the 30-day delay in effectiveness requirement under 5 U.S.C. 553(d)(3).

List of Subjects in 50 CFR Part 660

Administrative practice and procedure, American Samoa, Fisheries, Fishing, Guam, Hawaiian Natives, Indians, Northern Mariana Islands, Reporting and recordkeeping requirements.

Dated: October 17, 2005.
James W. Balsiger,
Acting Deputy Assistant Administrator for Regulatory Programs, National Marine Fisheries Service.

Accordingly, 50 CFR part 660 is corrected by making the following correcting amendments:

PART 660—FISHERIES OFF WEST COAST STATES AND IN THE WESTERN PACIFIC

l. The authority citation for part 660 continues to read as follows:

Authority: 16 U.S.C. 1801 et seq.

2. In part 660, subpart G, Table 3 (South) is revised to read as follows:

BILLING CODE 3510-22-S

[FR Doc. 05-21088 Filed 10-18-05; 1:11 pm]

BILLING CODE 3510-22-C